DEPARTMENT OF TRANSPORTATION

Federal Railroad Administration

[Docket No. FRA-2013-0002-N-4]

Proposed Agency Information Collection Activities; Comment Request

AGENCY: Federal Railroad Administration, DOT.

ACTION: Notice.

SUMMARY: In accordance with the Paperwork Reduction Act of 1995 and its implementing regulations, the Federal Railroad Administration (FRA) hereby announces that it is seeking renewal of the following currently approved information collection activities. Before submitting these information collection requirements (ICRs) for clearance by the Office of Management and Budget (OMB), FRA is soliciting public comment on specific aspects of the activities identified below.

DATES: Comments must be received no later than April 22, 2013.

ADDRESSES: Submit written comments on any or all of the following proposed activities by mail to either: Mr. Robert Brogan, Office of Safety, Planning and Evaluation Division, RRS-21, Federal Railroad Administration, 1200 New Jersey Ave. SE., Mail Stop 25, Washington, DC 20590, or Ms. Kimberly Toone, Office of Information Technology, RAD-20, Federal Railroad Administration, 1200 New Jersey Ave. SE., Mail Stop 35, Washington, DC 20590. Commenters requesting FRA to acknowledge receipt of their respective comments must include a self-addressed stamped postcard stating, “Comments on OMB Control Number 2130-0533.” Alternatively, comments may be transmitted via facsimile to (202) 493-6216 or (202) 493-6170, or via email to Mr. Brogan at Robert.Brogan@dot.gov, or to Ms. Toone at Kimberly.Toone@dot.gov. Please refer to the assigned OMB control number in any correspondence submitted. FRA will summarize comments received in response to this notice in a subsequent notice and include them in its information collection submission to OMB for approval.

FOR FURTHER INFORMATION CONTACT: Mr. Robert Brogan, Office of Planning and Evaluation Division, RRS-21, Federal Railroad Administration, 1200 New Jersey Ave. SE., Mail Stop 25, Washington, DC 20590 (telephone: (202) 493-6292) or Ms. Ms. Kimberly Toone, Office of Information Technology, RAD-20, Federal Railroad Administration, 1200 New Jersey Ave. SE., Mail Stop 35, Washington, DC 20590 (telephone: (202) 493-6132). (These telephone numbers are not toll-free.)

SUPPLEMENTARY INFORMATION: The Paperwork Reduction Act of 1995 (PRA), Public Law 104-13, § 2, 109 Stat. 163 (1995) (codified as revised at 44 U.S.C. 3501-3520), and its implementing regulations, 5 CFR part 1320, require Federal agencies to provide 60-days notice to the public for comment on information collection activities before seeking approval for reinstatement or renewal by OMB. 44 U.S.C. 3506(c)(2)(A); 5 CFR 1320.8(d)(1), 1320.10(e)(1), 1320.12(a). Specifically, FRA invites interested respondents to comment on the following summary of proposed information collection activities regarding (i) Whether the information collection activities are necessary for FRA to properly execute its functions, including whether the activities will have practical utility; (ii) the accuracy of FRA's estimates of the burden of the information collection activities, including the validity of the methodology and assumptions used to determine the estimates; (iii) ways for FRA to enhance the quality, utility, and clarity of the information being collected; and (iv) ways for FRA to minimize the burden of information collection activities on the public by automated, electronic, mechanical, or other technological collection techniques or other forms of information technology (e.g., permitting electronic submission of responses). See 44 U.S.C. 3506(c)(2)(A)(I)-(iv); 5 CFR 1320.8(d)(1)(I)-(iv). FRA believes that soliciting public comment will promote its efforts to reduce the administrative and paperwork burdens associated with the collection of information mandated by Federal regulations. In summary, FRA reasons that comments received will advance three objectives: (i) Reduce reporting burdens; (ii) ensure that it organizes information collection requirements in a “user friendly” format to improve the use of such information; and (iii) accurately assess the resources expended to retrieve and produce information requested. See 44 U.S.C. 3501.

Below is a brief summary of the currently approved ICRs that FRA will submit for clearance by OMB as required under the PRA:

Title: Qualifications for Locomotive Engineers.

OMB Control Number: 2130-0533.

Abstract: Section 4 of the Rail Safety Improvement Act of 1988 (RSIA), Public Law 100-342, 102 Stat. 624 (June 22, 1988), later amended and re-codified by Public Law 103-272, 108 Stat. 874 (July 5, 1994), required that FRA issue regulations to establish any necessary program for certifying or licensing locomotive engineers. The collection of information is used by FRA to ensure that railroads employ and properly train qualified individuals as locomotive engineers and designated supervisors of locomotive engineers. The collection of information is also used by FRA to verify that railroads have established required certification programs for locomotive engineers and that these programs fully conform to the standards specified in the regulation.

Affected Public: Businesses.

Respondent Universe: 733 railroads.

Frequency of Submission: On occasion; annually; tri-annually.

Reporting Burden
CFR section | Respondent universe | Total annual responses | Average time per response | Total annual burden hours
240.9—Waivers | 733 railroads | 3 waiver petitions | 1 hour | 3
240.101/103—Cert. Prog.—Amendmnts | 733 railroads | 50 amendments | 1 hour | 50
—Cert. Prog.—New | 20 railroads | 20 programs | 40 hours | 800
—Final Review | 20 railroads | 20 reviews | 1 hour | 20
—Material Modification to Program | 733 railroads | 30 modified prog. | 45 minutes | 23
240.105(b)—Selection Criteria for DSLEs—Exams | 733 railroads | 50 examinations | 1 hour | 50
(c) Written Reports/Determinations of DSLE Performance Skills | 10 railroads | 10 reports | 1 hour | 10
240.109/App. C—Prior Safety Conduct Data | 17,667 candidates | 25 responses | 60 minutes | 25
240.111/App C—Driver's License Data | 17,667 candidates | 17,667 requests | 15 minutes | 4,417
—NDR Match—notifications and requests for data | 733 railroads | 177 notices + 177 requests | 15 min. + 15 min. | 89
—Written response from candidate on driver's lic. data candidates | 733 railroads | 20 cases/comments | 15 minutes | 5
240.111(g)—Notice to RR of Absence of License | 53,000 candidates | 4 letters | 15 minutes | 1
240.111(h)—Duty to furnish data on prior safety conduct as motor vehicle op. | 733 railroads | 200 phone calls | 10 minutes | 33
240.113—Notice to RR Furnishing Data on Prior Safety Conduct—Diff. RR | 17,667 candidates | 353 requests + 353 responses | 15 min./30 min. | 265
240.119—Self-referral to EAP re: active substance abuse disorder | 53,000 locomotive engineers | 50 self-referrals | 5 minutes | 4
240.121—Criteria—Vision/Hearing Acuity Data—New Railroads | 20 railroads | 20 copies | 15 minutes | 5
240.121—Criteria—Vision/Hearing Acuity Data—Cond. Certification | 733 railroads | 20 reports | 1 hour | 20
240.121—Criteria—Vision/Hearing Acuity Data—Not Meeting Standards—Notice by Employee | 733 railroads | 10 notifications | 15 minutes | 3
240.127—Criteria for Examining Skill Performance—Modification to Certification Program to Include Scoring System | 733 railroads | 46 amended programs + 687 amended programs | 48 hours + 8 hours | 7,704
240.201/221—List of Qualified DSLEs | 733 railroads | 733 updates | 60 minutes | 733
240.201/221—List of Qualified Loco. Engineers | 733 railroads | 733 updated lists | 60 minutes | 733
240.201/223/301—Loco. Engineers Certificate | 53,000 candidates | 17,667 certificates | 5 minutes | 1,472
—False entry on certificates | N/A | N/A | N/A | N/A
240.205—Data to EAP Counselor | 733 railroads | 177 records | 5 minutes | 15
240.207—Medical Certificate Showing Hearing/Vision Standards are Met | 53,000 candidates | 17,667 certificates | 70 minutes | 20,612
—Written determinations waiving use of corrective device | 733 railroads | 10 determinations | 2 hours | 20
240.219—Denial of Certification | 17,667 candidates | 30 letters + 30 responses | 1 hour | 60
—Notification to Employee of Adverse Decision | 733 railroads | 30 notifications | 1 hour | 30
240.227—Canadian Certification Data | N/A | N/A | N/A | N/A
240. 229—Joint Operations—Notice—not qualified | 321 railroads | 184 employee calls | 5 minutes | 15
240.309—RR Oversight Resp.: Detected Poor Safety Conduct—Annotation | 15 railroads | 6 annotations | 15 minutes | 2
Testing Requirements:
240.209/213—Written Tests | 53,000 candidates | 17,667 tests | 2 hours | 35,334
240.211/213—Performance Test | 53,000 candidates | 17,667 tests | 2 hours | 35,334
240.303—Annual operational monitor observation | 53,000 candidates | 53,000 tests/docs. | 2 hours | 106,000
240.303—Annual operating rules compliance test | 53,000 candidates | 53,000 tests | 1 hour | 53,000
Recordkeeping:
240.215—Retaining Info. Supporting Determination | 733 railroads | 17,667 records | 30 minutes | 8,834
240.305—Engineer's Notice of Non-Qualification to RR —Relaying | 53,000 engineers or candidates | 100 notifications | 5 minutes | 8
—Certification Denial or Revocation Status to other certifying railroad | 1,060 engineers | 2 letters | 30 minutes | 1
240.307—Notice to Engineer of Disqualification | 733 railroads | 900 letters | 1 hour | 900
240.309—Railroad Annual Review | 51 railroads | 51 reviews | 40 hours | 2,040
—Report of findings | 51 railroads | 12 reports | 1 hour | 12

Total Responses: 217,325.

Estimated Total Annual Burden: 278,682 hours.

Status: Regular Review.

Pursuant to 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Issued in Washington, DC, on February 13, 2013.
Rebecca Pennington,
Chief Financial Officer, Federal Railroad Administration.

[FR Doc. 2013-03869 Filed 2-19-13; 8:45 am]

BILLING CODE P